FEDERAL COMMUNICATIONS COMMISSION

Public Information Collections Approved by Office of Management and Budget

August 8, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Cheryl B. Williams, Federal Communications Commission, 445 12th Street, SW., Washington, DC 20554, (202) 418-0497 or via the Internet at CherylB.Williams@fcc.gov.

SUPPLEMENTARY INFORMATION: OMB Control No.: 3060-0751.

OMB Approval Date: 1/05/2006.

Expiration Date: 1/31/2009.

Title: Reports Concerning International Private Lines Interconnected to the U.S. Public Switched Network.

Form No.: N/A.

Estimated Annual Burden: 10 responses; 80 total annual burden hours; 8 hours average per respondent.

Needs and Uses: The purpose of this information collection is to review the impact, if any, that end-user private line interconnections have on the U.S. international settlements policy. Without the collection of this information, the Commission would not be able to monitor the impact that end-user private line interconnections have on the U.S. international public switched network.

OMB Control No.: 3060-0768.

OMB Approval Date: 1/18/2006.

Expiration Date: 1/31/2009.

Title: 28 GHz Band Segmentation Plan Amending the Commission's Rules to Redesignate the 27.5-29.5 GHz Frequency Band, to Reallocate the 29.5-30.0 GHz Frequency Band, and to Establish Rules and Policies for Local Multipoint Distribution Services (LMDS) and for the Fixed Satellite Service.

Form No.: N/A.

Estimated Annual Burden: 60 responses; 90 total annual burden hours; 1.5 hours average per respondent.

Needs and Uses: The Federal Communications Commission (“Commission”) and other applicants and/or licensees in the 28 GHz band use the information to determine the technical coordination of systems that are designed to share the same band segment in the 28 GHz frequency band. If this information is compiled less frequently or not filed in conjunction with the Commission's rules, applicants and licensees will not obtain the authorization necessary to provide telecommunications services; the Commission will not be able to carry out it mandate as required by statute; and applicants and licensees will not be able to provide service effectively.

OMB Control No.: 3060-0901.

OMB Approval Date: 4/26/2006.

Expiration Date: 4/30/2009.

Title: Reports of Common Carriers and Affiliates.

Form No.: N/A.

Estimated Annual Burden: 1,200 responses; 6,000 total annual burden hours; 5 hours average per respondent.

Needs and Uses: Common carriers must file copies of all contracts entered into with a communications entity in a foreign point for the provision of common carrier service between the United States and that foreign point. Carriers are exempt from this requirement if the carrier enters into such a contract with a carrier that lacks market power in the relevant foreign market. The information is used by Commission staff to monitor the operating agreements of the U.S. carriers and their foreign correspondents that possess market power, specifically to monitor the international accounting rates of such carriers to ensure consistency with Commission policies and the public interest. Without the collection of information, the Commission could not preclude one-way bypass and safeguard its international settlements policy.

OMB Control No.: 3060-0962.

OMB Approval Date: 11/17/2005.

Expiration Date: 11/30/2008.

Title: Redesignation of the 18 GHz Frequency Band, Blanket Licensing of Satellite Earth Stations in the Ka-Band and the Allocation of Additional Spectrum for Broadcast Satellite Service Use.

Form No.: N/A.

Estimated Annual Burden: 590 responses; 590 total annual burden hours; 1-4 hours average per respondent.

Needs and Uses: This information collection is necessary for the Commission to determine whether licensees complied with the rules applicable to satellite earth stations and to deploy new satellite systems. Without this information, the Commission would not be able to verify whether Geostationary Satellite Orbit (GSO) Fixed Satellite Service (FSS) earth stations in the Ka-Band were operating in accordance with the Commission's rules.

OMB Control No.: 3060-1014.

OMB Approval Date: 4/05/2006.

Expiration Date: 4/30/2009.

Title: Ku-band NGSO FSS.

Form No.: N/A.

Estimated Annual Burden: 1 response; 1 total annual burden hour; 1 hour average per respondent.

Needs and Uses: The information collection requirements accounted for in this collection are necessary to ensure that prospective licensees in the Non-geostationary (NGSO) Fixed Satellite Service (FSS) follow their service rules. Without such information collection requirements, many existing radio services, both satellite and terrestrial could potentially be interrupted by interference caused by NGSO FSS systems on the same frequencies.

OMB Control No.: 3060-1035.

OMB Approval Date: 1/06/2006.

Expiration Date: 1/31/2009.

Title: Part 73, Subpart F—International Broadcast Stations.

Form No.: FCC Forms 309, 310 and 311.

Estimated Annual Burden: 79 responses; 334 total annual burden hours; 0.5-10 hours average per respondent.

Needs and Uses: This information collection is used by the Commission to assign frequencies for use by international broadcast stations, to grant authority to operate such stations and to determine if interference or adverse propagation conditions exist that may impact the operation of such stations. The Commission collects this information pursuant to 47 CFR part 73, subpart F. If the Commission did not collect this information, it would not be in a position to effectively coordinate spectrum for international broadcasters or to act for entities in times of frequency interference or adverse propagation conditions.

Federal Communications Commission.
William F. Caton,
Deputy Secretary.

[FR Doc. E6-13738 Filed 8-22-06; 8:45 am]

BILLING CODE 6712-01-P